ENVIRONMENTAL PROTECTION AGENCY

[FRL-7119-3]

Office of Environmental Justice Small Grants Program—Application Guidance FY 2002

AGENCY: Environmental Protection Agency (EPA).

ACTION: Notice; correction.

SUMMARY: The Environmental Protection Agency published a document in the Federal Register of November 5, 2001, concerning application guidance for environmental justice small grants. The document contained incorrect dates.

FOR FURTHER INFORMATION CONTACT: Sheila Lewis, Senior Program Analyst, EPA Office of Environmental Justice, (202) 564-0152.

Correction

In the Federal Register of November 5, 2001, in FR Doc. 01-27591, beginning on page 55986, make the following corrections:

The date “February 21, 2002” is corrected to read “February 22, 2002 in the following places: page 55986, in the first column, in the second paragraph identified as DATES; page 55988, second column, in the last paragraph, in the second sentence and third column, in the first line; and page 55989, second column, third paragraph.

Dated: December 12, 2001.
Sheila Lewis,
Small Grants Program Manager.

[FR Doc. 01-31177 Filed 12-17-01; 8:45 am]

BILLING CODE 6560-50-P